DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Mutant A. nidulans Strains Requiring Anticancer or Antifungal Compounds for Growth

Katherine Jung et al. (NCI)

DHHS Reference No. E-312-2002/0 (Biological Materials)

Licensing Contact: Susan Ano; 301/435-5515; anos@od.nih.gov.

This technology describes four genetically modified strains of Aspergillus nidulans that bear mutations in the gene encoding γ-tubulin, a protein required for initiation of microtubule formation and mitosis. As a result of the mutations, these strains require the presence of an antimicrotubule agent as either an absolute or conditional requirement for growth, making the strains useful for drug discovery screens. Related proteins α- and β-tubulin, which form the actual microtubules, are used in drug discovery efforts for anticancer drugs and are the targets of chemotherapeutics paclitaxel and vincristine. Significantly, identifying compounds that affect γ-tubulin function, which is fundamentally different than that of α- and β-tubulin, could lead to new types or classes of anticancer or antifungal compounds that act in a different manner. Furthermore, use of these strains in drug discovery offers the advantage of detecting growth against a background of no growth, compared to more typical methods of detecting decreased growth. Additionally, since microtubules are involved in a myriad of cell processes such as cell division, cell motility, and intracellular transport; these mutant strains could be useful in the study of these processes. These cell lines are available for licensing through Biological Materials Licenses. Related research has been published in Jung et al., Mol. Biol. Cell 12: 2119-2136, 2001.

Mutant S. pombe Strains Carrying a Human γ-tubulin Gene or a Multicopy S. pombe γ-tubulin Plasmid

Katherine Jung et al. (NCI)

DHHS Reference No. E-313-2002/0 (Biological Materials)

Licensing Contact: Susan Ano; 301/435-5515; anos@od.nih.gov.

This technology describes two strains of Schizosaccharomyces pombe that have been genetically modified to affect the expression of γ-tubulin, a protein required for initiation of microtubule formation and mitosis. One strain carries a null mutation for expression of its γ-tubulin gene but has been transformed with DNA encoding human γ-tubulin. The second strain carries the S. pombe γ-tubulin gene on a multicopy plasmid and thus overexpresses S. pombe γ-tubulin. Since microtubules are involved in a myriad of cell processes such as cell division, cell motility, and intracellular transport, these mutant strains could be useful in the study of these and other processes, in particular by screening to discover compounds of medical and agricultural use. Specifically, the S. pombe strain carrying the human γ-tubulin gene could be used to identify potential antineoplastic agents, since compounds that specifically inhibit the growth of this strain will target human γ-tubulin. Compounds that inhibited growth of the strain overexpressing fungal γ-tubulin but not human γ-tubulin would be potential antifungal agents. These cell lines are available for licensing through Biological Materials Licenses. Related research has been published in Horio & Oakley, J. Cell Biol. 126: 1465-1473, 1994.

Polyclonal Antibodies Specific to Phosphorylation and Acetylation Sites of Human p53

Dr. Ettore Appella (NCI)

DHHS Reference No. E-262-2002/0

Licensing Contact: Sally Hu; 301/435-5606; hus@od.nih.gov.

This invention describes the antibodies that are specific to phosphorylated and acetylated sites of p53 and might be used as a powerful tool to study the function of the modifications and the mechanisms that regulate activation of p53. Those polyclonal antibodies have been raised by inoculating an animal with synthetic peptide mimicking the modified residue and its surrounding under conditions which elicit immune response. Those antibodies also can be used in medical diagnostics. They can be applied to monitor activity of corresponding enzymes, which catalyze the particular modification in the state of phosphorylation and acetylation of p53. The polyclonal antibodies from this invention are available for licensing via biological material licenses (BML).

Method for the Diagnosis and Treatment of Vascular Disease

Toren Finkel et al. (NHLBI)

DHHS Reference Nos. E-037-2003 filed 15 Nov 2002 and E-125-2003 filed 05 Feb 2003

Licensing Contact: Fatima Sayyid, 301/435-4521; sayyidf@od.nih.gov.

Cardiovascular disease is a major health risk throughout the industrialized world. Atherosclerosis, the most prevalent of cardiovascular diseases, is the principal cause of heart attack, stroke, and gangrene of the extremities. It is also the principal cause of death in the United States.

This invention portrays a method for diagnosing decreased vascular function, detecting increased cardiovascular risk and diagnosing atherosclerosis. An embodiment includes assaying the number of endothelial progenitor cells and treating a subject with decreased vascular function by administering a therapeutically effective amount of endothelial progenitor cells.

Related research has been published in Hill et al., New England Journal of Medicine 348: 593-600 Feb 13 2003.

Cyr61 as a Marker for Acute Renal Failure

Drs. Robert A. Star and Yasunari Muramatsu (NIDDK)

Provisional Patent Application Serial No. 60/367,411 filed 25 Mar 2002

Licensing Contact: Pradeep Ghosh; 301/435-5282; ghoshp@od.nih.gov.

This invention relates to a method of diagnosing Acute Renal Failure (ARF) at an early stage by determining urinary cysteine-rich protein, Cyr61 levels and a method for treating early ARF by administering Cyr61. Acute renal failure is a disease of high morbidity and mortality and therapeutic interventions are still lacking. The invention is based on the fact that acute renal ischemia is associated with increased Cyr61 mRNA and protein levels. Cyr61 is a member of connective tissue growth factor family and plays an important role in the wound repair and neovascularization process. Increased expression of Cyr61 mRNA in ARF results in enhanced synthesis of Cyr61 protein and because Cyr61 is a secreted protein, the urine level of Cyr61 increases in ARF patients. Increased levels of urinary Cyr61 may thus have a potential as a diagnostic marker for ARF. In addition, because of its neovascularization properties, administration of Cyr61 may stimulate the renal repair process and/or prevent renal injury. Therefore, Cyr61 is a biomarker that also has potential therapeutic use for the treatment of ARF in patients with ischemia, sepsis, or following renal transplantation.

Dated: April 8, 2003.
Steven M. Ferguson,
Acting Director, Division of Technology Development and Transfer, Office of Technology Transfer, National Institutes of Health.

[FR Doc. 03-9287 Filed 4-15-03; 8:45 am]

BILLING CODE 4140-01-P